DEPARTMENT OF LABOR

Employment and Training Administration

[TA-W-40,647]

Biltwell Clothing Co., Farmington, Missouri; Notice of Termination of Investigation

Pursuant to section 221 of the Trade Act of 1974, an investigation was initiated on January 28, 2002 in response to a worker petition, which was filed by the company on behalf of workers at Biltwell Clothing Co., Farmington, Missouri.

An active certification covering the petitioning group of workers remains in effect (TA-W-39,244). Consequently, further investigation in this case would serve no purpose, and the investigation has been terminated.

Signed in Washington, DC, this 3rd day of May, 2002.
Linda G. Poole,
Certifying Officer, Division of Trade Adjustment Assistance.

[FR Doc. 02-15434 Filed 6-18-02; 8:45 am]

BILLING CODE 4510-30-P